DEPARTMENT OF ENERGY

Federal Energy Regulatory Commission

[Project No. 12679-003]

ORPC Alaska, LLC; Notice of Preliminary Permit Application Accepted for Filing and Soliciting Comments, Motions To Intervene, and Competing Applications

August 4, 2010.

On April 1, 2010, and supplemented on July 26, 2010, ORPC Alaska, LLC filed an application for a preliminary permit, pursuant to section 4(f) of the Federal Power Act (FPA), proposing to study the feasibility of the Cook Inlet Tidal Energy Project to be located in Cook Inlet in the vicinity of Anchorage, Alaska, in the Municipality of Anchorage and Matanuksa-Susitna Borough, Alaska. The sole purpose of a preliminary permit, if issued, is to grant the permit holder priority to file a license application during the permit term. A preliminary permit does not authorize the permit holder to perform any land-disturbing activities or otherwise enter upon lands or waters owned by others without the owners' express permission.

The proposed project will consist of the following: (1) Four 250-kilowatt TideGen turbine-generator modules with a combined capacity of 1 megawatt (MW); (2) an approximately 4,000-foot-long underwater transmission cable from the module site to a shore station on Fire Island; (3) an approximately 4,600-foot-long transmission line connecting the shore station to an interconnection point on Fire Island; and (4) appurtenant facilities. The estimated annual generation of the Cook Inlet project would be 2,628 megawatt-hours.

Applicant Contact: Monty Worthington, Director of Project Development, ORPC Alaska, LLC, 725 Christensen Drive, Suite A, Anchorage, AK 99501; phone: (907) 339-7939.

FERC Contact: Jennifer Harper (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12679-003) in the docket number field to access the document. For assistance, contact FERC Online Support.

Kimberly D. Bose,
Secretary.

[FR Doc. 2010-19669 Filed 8-9-10; 8:45 am]

BILLING CODE 6717-01-P